DEPARTMENT OF DEFENSE

Department of the Army; Corps of Engineers

Notice of Intent To Prepare a Draft Environmental Impact Statement on Beach and Dune Restoration in St. Lucie County, FL

AGENCY: U.S. Army Corps of Engineers, Jacksonville District, DoD.

ACTION: Notice of Intent (NOI).

SUMMARY: The U.S. Army Corps of Engineers (Corps), Jacksonville District, has received a permit application for a Department of the Army permit under Section 10 of the Rivers and Harbors Act and Section 404 of the Clean Water Act from the St. Lucie County Erosion Control District (County) to construct a beach nourishment and dune restoration project along St. Lucie County. As part of the permit process, the Corps is evaluating the environmental effects associated with beach nourishment and dune restoration.

The primary Federal involvement associated with the Proposed Action is the dredging and discharge of fill within navigable waters of the United States. Because of the extensive hardbottom resources immediately adjacent to the beach, the high recreational uses of the project area, and the potential environmental impacts of the proposed project, the Corps will prepare an Environmental Impact Statement (EIS) in compliance with the National Environmental Policy Act (NEPA) to render a final decision on the County's permit application. The Corps' decision will be to either issue or deny a Department of the Army permit for the Proposed Action. The Draft EIS (DEIS) is intended to be sufficient in scope to address Federal, State, and local requirements and environmental issues concerning the Proposed Action and permit reviews.

The ongoing St. Lucie County, FL, Shore Protection Feasibility Study was authorized by Section 418 of the Water Resources and Development Act of 2000 (Pub. L. 106-541). It is anticipated that this study will culminate in a congressionally authorized Federal project and the Corps will cost share future renourishment events subsequent to the construction of the initial project by the permittee. In addition, as a Federal agency with jurisdiction to manage resources available on the Outer Continental Shelf (OCS), the U.S. Minerals Management Service would be invited to become a cooperating agency on the study should potential borrow areas be identified within Federal waters (outside the 3-mile State statutory limit).

DATES: A public scoping workshop will be held on, or about, May 19, 2010 at 6 p.m. EST.

ADDRESSES: The meeting will be held at the following location. St. Lucie County Commission Chambers, Roger Poitras Administration Annex, 2300 Virginia Ave., Fort Pierce, FL 34982. The workshop will give agencies and the public an opportunity to receive more information on the Proposed Action, alternatives, and to provide comments and suggestions on the scope of the EIS.

FOR FURTHER INFORMATION CONTACT: Questions about the Proposed Action and Draft EIS should be directed to Mr. Garett Lips, Corps Regulatory Project Manager, by telephone at (561) 472-3519 or by e-mail at Garett.G.Lips@usace.army.mil. Written comments should be addressed to the U.S. Army Corps of Engineers, Attn: Mr. Garett Lips, 4400 PGA Boulevard, Suite 500, Palm Beach Gardens, Florida 34410 or by facsimile at (561) 626-6971.

SUPPLEMENTARY INFORMATION: a. Project Background and Authorization. The Corps will study the southern 3.8 miles of County shoreline which approximately coincides with Florida Department of Environmental Protection Shoreline Monuments R-88.5 to R-90.3, and R-98 to the St. Lucie/Martin County line. The study area is comprised of the shoreline and nearshore environment. The shoreline in this area has experienced long-term erosion due to waves and intense tropical storms.

b. Background: No previous beach nourishment activities have occurred along this segment of beach. However, upland dune restoration was performed after Hurricane Jeanne in 2004, which was not regulated by the Corps. Native dune vegetation is limited to those few locations where the dry beach extends far enough to allow dune vegetation to grow. Based on aerial photography, hardbottom colonized by Phragmatopoma lapidosa is commonly found within 600 feet of the inter-tidal beach, depending on the time of evaluation and the specific location within the project area.

c. Purpose and Need: The project purpose is to stabilize and restore the beach and dune between FDEP Monuments R-88.5 to R-90.3, and R-98 to the St. Lucie/Martin County line.

d. Proposed Action. St. Lucie County intends to restore the beach and dune by placing approximately 610,000 cubic yards of beach compatible sand along the proposed project's beach. The sand will be hopper-dredged from a relict shoal approximately three to six miles offshore of FDEP monuments R-88 to R-115.

e. Alternatives. An evaluation of alternatives to the Proposed Action initially being considered includes a “No Action” alternative, beach nourishment and dune restoration through filling activities, as well as analyzing other reasonable alternatives developed through the project scoping process to stabilizing the beach to meet the identified purpose and need.

f. Draft EIS Scoping Process: The Corps is furnishing this notice to advise other Federal and State agencies, affected federally recognized Tribes, and the public of our intentions. This notice announces the initiation of a 30-day scoping period which requests the public's involvement in the scoping and evaluation process of the DEIS. Stakeholders will be notified through advertisements, public notices and other means. All parties who express interest will be given an opportunity to participate in this process. The process allows the Corps to obtain suggestions and information on the scope of issues and an opportunity to provide reasonable alternatives to be included in the Draft EIS. The Corps invites comments from all interested parties to ensure that all significant issues are identified and the full range of issues related to the permit request are addressed. We will accept written comments until 30 days after the date of publication of this notice. (See DATES and ADDRESSES)

g. Significant issues: The DEIS will analyze the following: aesthetics/visual quality, agricultural resources, air quality, biological resources, cultural resources, cumulative impacts, environmental justice, flood protection, geology/soils, growth inducement, land use/planning, noise/vibration, public health and safety, public services/utilities, recreation, socioeconomics, threatened and endangered species, traffic/circulation, water resources including wetlands, and other issues identified through scoping, public involvement, and interagency coordination. The Corps will conduct an environmental review of the Proposed Action in accordance with the requirements of NEPA, 1969, as amended, (42 U.S.C. 4321 et seq.) and its implementing regulations (40 Code of Federal Regulations, Section 1500 et seq.), Corps Procedures for Implementing NEPA (33 Code of Federal Regulations, Section 230 et seq.), NEPA Implementation Procedures for the Regulatory Program (33 Code of Federal Regulations, Section 325, Appendix B), and with other appropriate Federal laws and regulations, policies, and procedures of the Corps for compliance with those regulations. The Proposed Action, through the Corps permit review process, will require consultation under Section 7 of the Endangered Species Act and the Magnunson-Stevens Fishery Conservation and Management Act. Additionally, the proposed action would involve evaluation for compliance with the Section 404(b)(1) Guidelines of the Clean Water Act; Section 106 of the National Historic Preservation Act; Water Quality Certification pursuant to Section 401 of the Clean Water Act; certification of State lands, easements and right of ways; and determination of Coastal Zone Management Act consistency.

h. Availability of the Draft EIS. The Corps currently expects the DEIS to be made available to the public in late October 2010. A public meeting will be held during the public comment period for the DEIS. Written comments will be accepted at the meeting.

Donnie W. Kinard,
Chief, Regulatory Division, Jacksonville District.

[FR Doc. 2010-9204 Filed 4-20-10; 8:45 am]

BILLING CODE 3710-58-P